DEPARTMENT OF HOMELAND SECURITY

Federal Emergency Management Agency

[Docket ID FEMA-2015-0001; Internal Agency Docket No. FEMA-B-1476]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Title 44, Part 65 of the Code of Federal Regulations (44 CFR part 65). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has 90 days in which to request through the community that the Deputy Associate Administrator for Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

(Catalog of Federal Domestic Assistance No. 97.022, “Flood Insurance.”)

Dated: February 23, 2015.
Roy E. Wright,
Deputy Associate Administrator for Mitigation, Department of Homeland Security, Federal Emergency Management Agency.

—
State and county | Location and case No. | Chief executive officer of community | Community map repository | Online location of letter of map revision | Effective date of modification | Community No.
Delaware: New Castle | Unincorporated areas of New Castle County (14-03-0976P) | The Honorable Thomas P. Gordon, New Castle County Executive, 87 Reads Way, New Castle, DE 19720 | New Castle County Government Center, 87 Reads Way, New Castle, DE 19720. | http://www.msc.fema.gov/lomc | Jan. 30, 2015 | 105085
Pennsylvania:
Allegheny | City of Pittsburgh (14-03-1501P) | The Honorable William Peduto, Mayor, City of Pittsburgh, 512 City County Building, 414 Grant Street, Pittsburgh, PA 15219 | Department of City Planning, 200 Ross Street, 4th Floor, Pittsburgh, PA 15219 | http://www.msc.fema.gov/lomc | Jan. 29, 2015 | 420063
Bucks | Borough of New Hope (14-03-1346P) | Mr. John Burke, Manager, Borough of New Hope, 123 New Street, New Hope, PA 18938 | Borough Hall, 123 New Street, New Hope, PA 18938 | http://www.msc.fema.gov/lomc | Mar. 17, 2015 | 420195
Texas:
Bexar | City of San Antonio (14-06-3621P) | The Honorable Ivy R. Taylor, Mayor, City of San Antonio, P.O. Box 839966, San Antonio, TX 78283 | Department of Public Works, Storm Water Engineering, 1901 South Alamo Street, 2nd Floor, San Antonio, TX 78204 | http://www.msc.fema.gov/lomc | Feb. 12, 2015 | 480045
Bexar | Unincorporated areas of Bexar County, (14-06-3621P) | The Honorable Nelson W. Wolff, Bexar County Judge, Paul Elizondo Tower, 101 West Nueva Street, 10th Floor, San Antonio, TX 78205 | Bexar County Public Works Department, 233 North Pecos-La Trinidad Street, Suite 420, San Antonio, TX 78207 | http://www.msc.fema.gov/lomc | Feb. 12, 2015 | 480035
Dallas | City of Farmers Branch, (14-06-2597P) | The Honorable Bob Phelps, Mayor, City of Farmers Branch, 13000 William Dodson Parkway, Farmers Branch, TX 75234 | City Hall, 13000 William Dodson Parkway, Farmers Branch, TX 75234 | http://www.msc.fema.gov/lomc | Feb. 2, 2015 | 480174
Dallas | Town of Highland Park, (14-06-0617P) | The Honorable Joel T. Williams, III, Mayor, Town of Highland Park, 4700 Drexel Drive, Highland Park, Texas 75205 | Public Works Department, 4700 Drexel Drive, Highland Park, Texas 75205 | http://www.msc.fema.gov/lomc | Feb. 13, 2015 | 480178
Ector | City of Odessa, (14-06-2873P) | The Honorable David Turner, Mayor, City of Odessa, P.O. Box 4398, Odessa, TX 79760 | City Hall, 411 West 8th Avenue, Odessa, TX 79760 | http://www.msc.fema.gov/lomc | Feb. 10, 2015 | 480206
Ellis | City of Waxahachie, (13-06-4294P) | The Honorable Kevin Strength, Mayor, City of Waxahachie, 401 South Rogers Street, Waxahachie, TX 75165 | 401 South Rogers Street, Waxahachie, TX 75165 | http://www.msc.fema.gov/lomc | Jan. 29, 2015 | 480211
Grayson | Town of Gunter, (14-06-0033P) | The Honorable Don Anderson, Mayor, Town of Gunter, P.O. Box 349, Gunter, TX 75058 | Town Hall, 418 West Main Street, Gunter, TX 75058 | http://www.msc.fema.gov/lomc | Feb. 3, 2015 | 480832
Grayson | Unincorporated areas of Grayson County, (14-06-0033P) | The Honorable Drue Bynum, Grayson County Judge, 100 West Houston Street, Sherman, TX 75090 | Grayson County Courthouse, 100 West Houston Street, Sherman, TX 75090 | http://www.msc.fema.gov/lomc | Feb. 3, 2015 | 480829
Lampasas | Unincorporated areas of Lampasas County (14-06-1364P). | The Honorable Wayne L. Boultinghouse, Lampasas County Judge, P.O. Box 231, Lampasas, TX 76550 | Lampasas County Courthouse, County Judge's Office, 501 East 4th Street, Lampasas, TX 76550 | http://www.msc.fema.gov/lomc | Dec. 8, 2014 | 480899

[FR Doc. 2015-07147 Filed 3-27-15; 8:45 am]

BILLING CODE 9110-12-P